DEPARTMENT OF ENERGY

Federal Energy Regulatory Commission

[Docket No. CP11-75-000]

Minnesota Energy Resources Corporation; Notice of Application

Take notice that on February 1, 2011, Minnesota Energy Resources Corporation (MERC), 2665 145th Street West, Rosemount, MN 55068, filed an abbreviated application pursuant to Section 7(f) of the Natural Gas Act for amendment to its service area determination issued in an order dated July 14, 2006, Docket No. CP06-370-000. MERC also requests: (i) a finding that MERC continues to qualify as a local distribution company (LDC) for purposes of section 311 of the Natural Gas Policy Act of 1978 (NGPA); and (ii) a waiver of the Commission's accounting and reporting requirements and other regulatory requirements ordinarily applicable to natural gas companies under the NGA and NGPA. The filing may also be viewed on the Web at http://www.ferc.gov using the “eLibrary” link. Enter the docket number excluding the last three digits in the docket number field to access the document. For assistance, contact FERC at FERCOnlineSupport@gerc.gov or call toll-free, (886) 208-3676 or TYY, (202) 502-8659.

MERC requests to own facilities located in South Dakota. The request arises from a service agreement between MERC and NorthWestern Corporation doing business as NorthWestern Energy. MERC proposes to take service from NorthWestern Energy near the South Dakota/Minnesota border, and receives gas on the South Dakota side near Big Stone City. MERC will transport the gas, on its own facilities, to Minnesota near Ortonville. MERC will own less than 100 feet of pipeline in South Dakota. MERC will serve no customers in South Dakota. The purpose of owning facilities in South Dakota is to bring gas to Minnesota to serve MERC's customers in Minnesota.

Any questions regarding this application should be directed to Mary Klyasheff, Integrys Energy Group, Inc., Legal Services Department, 130 East Randolph Drive, Chicago, Illinois 60601; phone number (312) 240-4470; or e-mail: MPKyasheff@integrysgroup.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit original and 7 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: February 18, 2011.

Dated: February 8, 2011.
Kimberly D. Bose,
Secretary.

[FR Doc. 2011-3306 Filed 2-14-11; 8:45 am]

BILLING CODE 6717-01-P